NUCLEAR REGULATORY COMMISSION

[Docket No. 50-73]

Notice of Renewal of Facility Operating License for the General Electric Nuclear Test Reactor

The U. S. Nuclear Regulatory Commission (the Commission) has issued Amendment No. 21 to Facility Operating License No. R-33 issued to the General Electric Company (the licensee). This license amendment renews the license for the General Electric Nuclear Test Reactor in Sunol, California. The facility is a non-power reactor that has been operating at power levels not in excess of 100 kilowatts (thermal). The renewed Operating License will expire 20 years from the date of amendment issuance.

Opportunity for hearing on this amendment was afforded in the notice of the proposed issuance of this renewal in the Federal Register on September 22, 1999, at 64 FR 51340. No request for a hearing or petition for leave to intervene was filed following notice of the proposed action.

The amended license complies with the standards and requirements of the Atomic Energy Act of 1954, as amended (the Act), and the Commission's rules and regulations. The Commission has made appropriate findings as required by the Act and the Commission's Rules and regulations in 10 CFR Chapter I. Those findings are set forth in the license amendment.

The Commission has prepared a safety evaluation for the renewal of the license, which is attached to the amendment. The Commission has, based on that safety evaluation, concluded that the facility can continue to be operated by the licensee without endangering the health and safety of the public.

The Commission also has prepared an environmental assessment and finding of no significant impact for the renewal of the license. The environmental assessment and finding of no significant impact was published in the Federal Register on April 20, 2001, at 66 FR 20339. Continued operation of the reactor will not require alteration of buildings or structures, will not lead to significant changes in effluents released from the facility to the environment, will not increase the probability or consequences of accidents, and will not involve any unresolved issues concerning alternative uses of available resources. The Commission has concluded that this action will not have a significant effect on the quality of the human environment.

For further details with respect to this action, see (1) the application for amendment dated September 30, 1997, as supplemented on June 18, 1999, August 23, 1999, June 1, 2000, and October 5, 2000, (2) the notice of the proposed issuance, (3) Amendment No. 21 to Facility Operating License R-33, (4) the Commission's related safety evaluation report, and (5) the environmental assessment and finding of no significant impact. These documents may be examined, and/or copied for a fee, at the NRC's Public Document Room, located at One White Flint North, 11555 Rockville Pike (first floor), Rockville, Maryland. Publicly available records will also be accessible electronically from the ADAMS Public Library component on the NRC Web site, http://www.nrc.gov (the Electronic Reading Room).

Dated at Rockville, Maryland, this April 20, 2001.
For the Nuclear Regulatory Commission.
Ledyard B. Marsh,
Chief, Events Assessment, Generic Communications, and Non-Power Reactors Branch, Division of Regulatory Improvement Programs, Office of Nuclear Reactor Regulation.

[FR Doc. 01-10616 Filed 4-27-01; 8:45 am]

BILLING CODE 7590-01-P